DEPARTMENT OF HEALTH AND HUMAN SERVICES

National Institutes of Health

Submission for OMB review; comment request; National Institute of Diabetes and Digestive and Kidney Diseases Information Clearinghouses Customer Satisfaction Survey

SUMMARY: Under the provisions of section 3507(a) (1)(D) of the Paperwork Reduction Act of 1995, the National Institute of Diabetes and Digestive and Kidney Diseases (NIDDK), the National Institutes of Health (NIH) has submitted to the Office of Management and Budget (OMB) a request for review and approval of the information collection listed below. This proposed information collection was previously published in the Federal Register on August 14, 2006, page 46486 and allowed 60-days for public comment. No public comments were received. The purpose of this notice is to allow an additional 30 days for public comment. The National Institutes of Health may not conduct or sponsor, and the respondent is not required to respond to, an information collection that has been extended, revised, or implemented on or after October 1, 1995, unless it displays a currently valid OMB control number.

Proposed Collection

Title: NIDDK Information Clearinghouses Customer Satisfaction Survey.

Type of Information Requested: Revision of a previously approved collection for which approval has expired. The OMB control number 0925-0480 will expire on November 30, 2006.

Need and Use of Information Collection: NIDDK is conducting a survey to assess the efficiency and effectiveness of services provided by NIDDK's three clearinghouses: the National Diabetes Information Clearinghouse (NIDC); the National Digestive Diseases Information Clearinghouse (NDDIC); and the National Kidney and Urologic Diseases Information Clearinghouse (NKUDIC). The survey responds to Executive Order 12821, “Setting Customer Service Standards,” which requires agencies and departments to identify and survey their “customers to determine the kind and quality of service they want and their level of satisfaction with existing services.”

Frequency of Response: On occasion.

Affected Public: Individuals or households; business and for profit organizations; not-for-profit agencies.

Type of Respondents: Physicians, health care professionals, patients, family and friends of patients.

The annual reporting burden is as follows:

Estimated Number of Respondents: 5,112.

Estimated Number of Responses per Respondent: 1.

Average Burden Hours per Response: 0.025.

Estimated Total Annual Burden Hours Requested: 128.

The annualized costs to respondents is estimated at $6,400.00. There are no Capital Costs to report. There are no Operating or Maintenance Costs to report.

Burden Table
Number of respondents | Frequency of response | Average time per response | Annual hour burden | Average hourly wage rate | Respondent cost
5,112 | 1.00 | 0.025 | 128 | $50.00 | $6,400.00

Request for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of the information on those who are to respond, including the use of appropriate automated, electronic, mechanical, or other technological collection techniques or other forms of information technology.

Direct Comments to OMB: Written comments and/or suggestions regarding the item(s) contained in this notice, especially regarding the estimated public burden and associated response time, should be directed to the: Office of Management and Budget, Office of Regulatory Affairs, New Executive Office Building, Room 10235, Washington DC 20503, Attention: Desk Officer for NIH. To request more information on the proposed project or to obtain a copy of the data collection reports and instrument, contact Kathy Kranzfelder, Project Officer, NIDDK Information Clearinghouses, NID, Building 31, Room 9A04, MSC2560, Bethesda, MD 20852, or e-mail your request, including your address to: kranzfeldk@hq.niddk.nih.gov.

Comments Due Date: Comments regarding this information collection are best assured of having their full effect if received within 30 days of the date of this publication.

Dated: November 27, 2006.
Lynell Nelson,
NIDDK Project Clearance Liaison, National Institutes of Health.

[FR Doc. E6-20373 Filed 11-30-06; 8:45 am]

BILLING CODE 4167-01-P